DEPARTMENT OF JUSTICE

[OMB Number 1121-NEW]

Agency Information Collection Activities; Proposed eCollection; eComments Requested; New Collection; State and Local Justice Agencies Serving Tribal Lands (SLJASTL): Survey of State and Local Prosecutor Offices Serving Tribal Lands (SSLPOSTL)

AGENCY: Bureau of Justice Statistics, Department of Justice.

ACTION: 30-day notice.

SUMMARY: Department of Justice (DOJ), Criminal Division will be submitting the following information collection request to the Office of Management and Budget (OMB) for review and approval in accordance with the Paperwork Reduction Act of 1995. This proposed information collection was previously published in the Federal Register at 81 FR 94420, on December 23, 2016, allowing for a 60 day comment period.

DATES: Comments are encourages and will be accepted for an additional 30 day until April 7, 2017.

FOR FURTHER INFORMATION CONTACT: If you have additional comments especially on the estimated public burden or associated response time, suggestions, or need a copy of the proposed information collection instrument with instructions or additional information, please contact Suzanne Strong, Bureau of Justice Statistics, 810 Seventh St. NW., Washington, DC 20531 (email: Suzanne.M.Strong@usdoj.gov; telephone: 202-616-3666). Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Survey of State and Local Prosecutor Offices Serving Tribal Lands/State and Local Justice Agencies Serving Tribal Lands.

(3) Agency form number, if any, and the applicable component of the Department sponsoring the collection: Agency form number: No agency form number at this time. Sponsoring component: Department of Justice, Bureau of Justice Statistics.

(4) Affected public who will be asked or required to respond, as well as a brief abstract: Primary respondents will be state and local prosecutor offices located in the 16 Public Law 83-280 states (Alaska, Arizona, California, Florida, Idaho, Iowa, Minnesota, Montana, Nebraska, Nevada, North Dakota, Oregon, South Dakota, Utah, Washington, and Wisconsin). Abstract: Among other responsibilities, the Bureau of Justice Statistics is charged with collecting data regarding crimes occurring on tribal lands. The SLJASTL is the first effort by BJS to include state and local justice agencies responsible for policing and prosecuting crimes that occur on tribal lands. Specifically, the SSLPOSTL will collect information that will help fill the gaps we have in our understanding of the nature of crime on tribal lands. There are two survey instruments: One for Alaska and one for the remaining fifteen Public Law 280 states. The data collection instruments are designed to capture administrative, operational and caseload data from prosecutor offices that investigate and prosecute crimes that occur on tribal lands in Public Law 280 states. The information collected includes the staffing and budget of the prosecutor office, the types of agreements prosecutor offices have with tribal governments, where prosecutors try crimes occurring on tribal lands (i.e., in tribal or state courts), non-prosecutorial services provided on tribal lands (such as victim services and community outreach services), information sharing with tribal governments, training received by prosecutors about tribal lands, joint training opportunities with state prosecutors and tribes, and the number and types of referrals to and cases prosecuted by state prosecutors. This survey is the first of its kind to describe the role that state and local prosecutor offices play in charging and prosecuting crimes that occur on tribal lands in Public Law 280 states.

(5) An estimate of the total number of respondents and the amount of time estimated for an average respondent to respond/reply: An agency-level survey will be sent to approximately 582 respondents, including 267 prosecutor offices located in counties that contain tribal lands and a sample of the 515 offices located in counties without tribal lands. BJS expects an 80% response rate, or 466 respondents. It is estimated that 466 respondents will complete each form within approximately 1 hour. Follow-up burden is estimated at 30 minutes per respondent, and includes nonresponse follow-up and follow-up to respondents in order to clarify problematic responses. The total burden per respondent is estimated at 90 minutes.

(6) An estimate of the total public burden (in hours) associated with the collection: There are an estimated 699 total burden hours associated with this collection.

If additional information is required contact: Melody Braswell, Department Clearance Officer, United States Department of Justice, Justice Management Division, Policy and Planning Staff, Two Constitution Square, 145 N Street NE., Suite 3E.405B, Washington, DC 20530.

Dated: March 3, 2017.
Melody Braswell,
Department Clearance Officer, PRA, U.S. Department of Justice.

[FR Doc. 2017-04530 Filed 3-7-17; 8:45 am]

BILLING CODE 4410-18-P